Memorandum of March 20, 2025

Strengthening the Suitability and Fitness of the Federal Workforce

Memorandum for the Director of the Office of Personnel Management

By the authority vested in me as President by the Constitution and the laws of the United States of America, it is hereby ordered:

Section 1. Delegation of Authority to Make Suitability Determinations and Required Rulemaking. (a) The Director of the Office of Personnel Management (OPM) is delegated the authority to make final suitability determinations and take suitability actions regarding employees in the executive branch based on post-appointment conduct, consistent with applicable law. In this context, a suitability action can include a directive by OPM to the head of an executive department or agency (agency) to remove an employee who does not meet the suitability criteria defined in OPM's regulations.

(b) The Director of OPM shall propose regulations, consistent with applicable law, amending Part 731 of title 5, Code of Federal Regulations, to account for the delegation described in subsection (a) of this section and to implement appropriate rules and procedures regarding suitability determinations and suitability actions based on post-appointment conduct. The delegation described in subsection (a) of this section shall not be effective until the completion of this rulemaking.

(c) In drafting the regulations described in subsection (b) of this section, the Director of OPM shall consider requiring that an employing agency must make a referral to OPM in order for the Director of OPM to make a final suitability determination and take a suitability action regarding an employee based on post-appointment conduct.

(d) The regulations described in subsection (b) of this section shall additionally propose that, consistent with Civil Service Rule 5.3, if the Director of OPM issues specific instructions as to separation or other corrective action with regard to an employee, including cancellation of a personnel action, the head of the agency concerned shall comply with the Director of OPM's instructions within 5 work days of the final decision.

Sec. 2. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) The Director of OPM is authorized and directed to publish this memorandum in the Federal Register.

THE WHITE HOUSE,

Washington, March 20, 2025

[FR Doc. 2025-05217

Filed 3-24-25; 8:45 am]

Billing code 6325-39-P-P